DEPARTMENT OF HOMELAND SECURITY

Coast Guard

33 CFR Part 165

[Docket No. USCG-2010-0444]

Safety Zone, Chicago Harbor, Navy Pier Southeast, Chicago, IL

AGENCY: Coast Guard, DHS.

ACTION: Notice of enforcement of regulation.

SUMMARY: The Coast Guard will enforce the Navy Pier Southeast Safety Zone in Chicago Harbor for annual fireworks events during nine separate periods between 8:45 p.m. on July 4, 2010 to 10 p.m. on July 31, 2010. This action is necessary and intended to ensure public safety during fireworks events. This rule will establish restrictions upon, and control movement of, vessels within the safety zone immediately prior to, during, and immediately after fireworks events. During the enforcement period, no person or vessel may enter the safety zone without permission of the Captain of the Port, Sector Lake Michigan.

DATES: The safety zone will be enforced during nine separate periods between 8:45 p.m. on July 4, 2010 to 10 p.m. on July 31, 2010.

FOR FURTHER INFORMATION CONTACT: If you have questions on this notice, call or e-mail BM1 Adam Kraft, Prevention Department, Coast Guard Sector Lake Michigan, Milwaukee, WI at 414-747-7154, e-mail Adam.D.Kraft@uscg.mil.

SUPPLEMENTARY INFORMATION: The Coast Guard will enforce Safety Zone, Chicago Harbor, Navy Pier Southeast, Chicago, IL, listed under 33 CFR 165.931 for the following events:

(1) Navy Pier Fireworks; on July 4, 2010 from 8:45 p.m. through 9:30 p.m.

(2) Navy Pier Fireworks; on July 7, 2010 from 9:15 p.m. through 9:45 p.m.

(3) Navy Pier Fireworks; on July 10, 2010 from 10 p.m. through 10:30 p.m.

(4) Navy Pier Fireworks; on July 14, 2010 from 9:15 p.m. through 9:45 p.m.

(5) Navy Pier Fireworks; on June 17, 2010 from 10 p.m. through 10:30 p.m.

(6) Navy Pier Fireworks; on July 21, 2010 from 9:15 p.m. through 9:45 p.m.

(7) Navy Pier Fireworks; on July 24, 2010 from 10 p.m. through 10:30 p.m.

(8) Navy Pier Fireworks; on July 28, 2010 from 9:15 p.m. through 9:45 p.m.

(9) Navy Pier Fireworks; on July 31, 2010 from 10 p.m. through 10:30 p.m.

All vessels must obtain permission from the Captain of the Port, Sector Lake Michigan, or his or her designated on-scene representative to enter, move within or exit the safety zone. Vessels and persons granted permission to enter the safety zone shall obey all lawful orders or directions of the Captain of the Port, Sector Lake Michigan, or his or her designated on-scene representative. While within a safety zone, all vessels shall operate at the minimum speed necessary to maintain a safe course.

This document is issued under authority of 33 CFR 165.931 Safety Zone, Chicago Harbor, Navy Pier Southeast, Chicago IL and 5 U.S.C. 552 (a). In addition to this notice in the Federal Register, the Coast Guard will provide the maritime community with advance notification of these enforcement periods via broadcast Notice to Mariners or Local Notice to Mariners. The Captain of the Port, Sector Lake Michigan, will issue a Broadcast Notice to Mariners notifying the public when enforcement of the safety zone established by this section is suspended. If the Captain of the Port, Sector Lake Michigan, determines that the safety zone need not be enforced for the full duration stated in this notice, he or she may use a Broadcast Notice to Mariners to grant general permission to enter the safety zone. The Captain of the Port, Sector Lake Michigan, or his or her designated on-scene representative may be contacted via VHF-FM Channel 16.

Dated: June 2, 2010.
L. Barndt,
Captain, U.S. Coast Guard, Captain of the Port, Sector Lake Michigan.

[FR Doc. 2010-14588 Filed 6-16-10; 8:45 am]

BILLING CODE 9110-04-P